DEPARTMENT OF DEFENSE

Office of the Secretary

TRICARE; Calendar Year 2014 TRICARE Young Adult Program Premium Update

AGENCY: Office of the Secretary of Defense, DoD.

ACTION: Notice of Updated TRICARE Young Adult Premiums for Calendar Year 2014.

SUMMARY: This notice provides the updated TRICARE Young Adult program premiums for Calendar Year (CY) 2014.

DATES: The CY 2014 rates contained in this notice are effective for services on or after January 1, 2014.

ADDRESSES: TRICARE Management Activity, Policy and Benefits Branch, 7700 Arlington Boulevard, Suite 5101, Falls Church, Virginia 22042-5101.

FOR FURTHER INFORMATION CONTACT: Mr. Mark A. Ellis, (703) 681-0039.

SUPPLEMENTARY INFORMATION: The final rule published in the Federal Register (FR) on May 29, 2013 (78 FR 32116-32121) sets forth rules to implement the TRICARE Young Adult (TYA) program as required by 10 U.S.C. 1110b. Included in the final rule were provisions for updating the TYA premiums for each CY. By law, qualified young adult dependents are charged TYA premiums that represent the full government cost of providing such coverage. Until premiums can be based on actual current year TYA costs, TYA premiums are based on the actual costs during preceding CYs for providing benefits to a similarly aged group of dependents that are TRICARE eligible.

TRICARE Management Activity has updated the monthly premiums for CY 2014 as shown below:

Monthly TYA Premiums for
CY 2014
Type of coverage | Monthly rate
TRICARE Standard Plans | $156
TRICARE Prime Plans | 180

The above premiums are effective for services rendered on or after January 1, 2014.

Dated: September 18, 2013.
Aaron Siegel,
Alternate OSD Federal Register Liaison Officer, Department of Defense.

[FR Doc. 2013-23025 Filed 9-20-13; 8:45 am]

BILLING CODE 5001-06-P